DEPARTMENT OF THE INTERIOR

Fish and Wildlife Service

50 CFR Part 21

[Docket No. FWS-HQ-MB-2021-0025; FF09M31000-234-FXMB12320900000]

RIN 1018-BF59

Migratory Bird Permits; Administrative Updates

AGENCY: Fish and Wildlife Service, Interior.

ACTION: Final rule; technical amendment.

SUMMARY: On January 7, 2022, the U.S. Fish and Wildlife Service (Service) published a final rule to renumber, rename, and rearrange certain subparts and sections in our regulations. In that rule, we incorrectly presented an amendatory instruction, which prevented the complete codification of the regulatory text we set forth for one section of the regulations. In this document, we correctly set forth the amendatory instruction and the relevant regulatory text. This technical amendment is a purely administrative action; it simply corrects one amendatory instruction to codify regulations we previously published in our January 7, 2022, final rule.

DATES: This rule is effective November 2, 2022.

FOR FURTHER INFORMATION CONTACT: Jerome Ford, Assistant Director—Migratory Birds Program, U.S. Fish and Wildlife Service, telephone: 703-358-2606, email: MB_mail@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The U.S. Fish and Wildlife Service is the Federal agency delegated with the primary responsibility for managing migratory birds. Our authority derives from the Migratory Bird Treaty Act of 1918, as amended, 16 U.S.C. 703 et seq. (MBTA) and the Bald and Golden Eagle Protection Act, 16 U.S.C. 668 et seq. (Eagle Act). Regulations pertaining to migratory bird permits are set forth at 50 CFR part 21. Regulations pertaining to eagle permits are set forth at 50 CFR part 22.

The regulations at 50 CFR parts 21 and 22 were established in 1974. Since 1974, we have published many rules to add, revise, or remove portions of these regulations. On January 7, 2022, we published a final rule (87 FR 876) to renumber, rename, and rearrange certain subparts and sections in parts 21 and 22 of subchapter B of chapter I, title 50 of the Code of Federal Regulations (CFR).

The January 7, 2022, final rule also updated applicable Office of Management and Budget (OMB) control numbers to provide the currently approved OMB control numbers for the information collection requirements in 50 CFR parts 21 and 22. These updates provide a consistent approach to the presentation of this information in our regulations and, for those affected sections, streamline our regulations to codify only the information needed to notify the public that the information collection requirements are approved by OMB.

In the January 7, 2022, final rule (87 FR 876), we set forth information collection requirements at a new paragraph (g) of 50 CFR 21.168 (“Public health control order for resident Canada geese.”; see 87 FR 883), but our relevant amendatory instruction neglected to instruct the Office of the Federal Register to “add” that new paragraph. Therefore, the new paragraph was not codified when the January 7, 2022, final rule became effective. With this document, we add paragraph (g) to 50 CFR 21.168 with the same text presented in the January 7, 2022, final rule.

List of Subjects in 50 CFR Part 21

Exports, Hunting, Imports, Reporting and recordkeeping requirements, Transportation, Wildlife.

Regulation Promulgation

Accordingly, we amend part 21 of subchapter B of chapter I, title 50 of the Code of Federal Regulations, as set forth below:

PART 21—MIGRATORY BIRD PERMITS

1. The authority citation for part 21 continues to read as follows:

Authority: 16 U.S.C. 703-712.

2. Amend § 21.168 by adding paragraph (g) to read as follows:

§ 21.168 Public health control order for resident Canada geese.

* * * * *

(g) Information collection requirements. The Office of Management and Budget (OMB) has approved the information collection requirements associated with this control order and assigned OMB Control Number 1018-0146. Federal agencies may not conduct or sponsor, and a person is not required to respond to, a collection of information unless it displays a currently valid OMB control number. Direct comments regarding the burden estimate or any other aspect of the information collection to the Service's Information Collection Clearance Officer at the address provided at 50 CFR 2.1(b).

Madonna Baucum,
Chief, Policy and Regulations Branch, U.S. Fish and Wildlife Service.

[FR Doc. 2022-23607 Filed 11-1-22; 8:45 am]

BILLING CODE 4333-15-P